DEPARTMENT OF JUSTICE

Notice of Lodging of Consent Decree Under the Comprehensive Environmental Response, Compensation, and Liability Act

Notice is hereby given that on November 9, 2000, a proposed Consent Decree in United States v. 150 Acres of Land, More or Less, Civil Action No. 5:95 CV 1009, was lodged with the United States District Court for the Northern District of Ohio.

The Consent Decree settles an action brought under Section 107 of the Comprehensive Environmental Response, Compensation and Liability Act, 42 U.S.C. § 9601, et seq., (“CERCLA”) for the recovery of past costs incurred by the United States in responding to releases or threatened releases of hazardous substances at the Bohaty Drum Site, located in Medina, Ohio. The proposed settlement set forth in the Consent Decree addresses the liability of five Claimants to the defendant Site, each of which owns an undivided interest in the Site. Under the terms of the proposed decree, the Settling Claimants will pay the United States a total of $100,000 in settlement of the United States' past costs claims against the defendant Site.

The Department of Justice will receive, for a period of thirty (30) days from the date of this publication, comments relating to the Consent Decrees. Comments should be addressed to the Assistant Attorney General for the Environment and Natural Resources Division, Department of Justice, P.O. Box 7611, Washington, D.C. 20044-7611, and should refer to United States v. 150 Acres of Land, More or Less, D.J. Ref. 90-11-2-1108.

The Consent Decree may be examined at the office of the United States Attorney, Northern District of Ohio, 1800 Bank One Center, 600 Superior Avenue East, Cleveland, Ohio 44114, and at United States Environmental Protection Agency Region V, 77 West Jackson Boulevard, Chicago, Illinois 60604. A copy of the proposed consent decree may also be obtained by mail from the Department of Justice Consent Decree Library, P.O. Box 7611, Washington, DC 20044. In requesting a copy please refer to the referenced case and enclose a check in the amount of $8.00 (25 cents per page reproduction costs), payable to the Consent Decree Library.

Bruce S. Gelber,
Chief, Environmental Enforcement Section, Environment and Natural Resources Division.

[FR Doc. 00-29540 Filed 11-17-00; 8:45 am]

BILLING CODE 4410-15-M